DEPARTMENT OF COMMERCE

International Trade Administration

[C-428-853, C-533-925, C-518-002, C-274-811]

Melamine From Germany, India, Qatar, and Trinidad and Tobago: Postponement of Preliminary Determinations in the Countervailing Duty Investigations

AGENCY: Enforcement and Compliance, International Trade Administration, Department of Commerce.

DATES: Applicable April 18, 2024.

FOR FURTHER INFORMATION CONTACT: Bob Palmer or Faris Montgomery, Office VIII (Germany), Paul Kebker or Dylan Hill, Office IV (India), Sofia Pedrelli or Samantha Kinney, Office II (Qatar), or Colin Thrasher, Office V (Trinidad and Tobago), AD/CVD Operations, Enforcement and Compliance, International Trade Administration, U.S. Department of Commerce, 1401 Constitution Avenue NW, Washington, DC 20230, telephone: (202) 482-9068, (202) 482-1537, (202) 482-2254, (202) 482-1197, (202) 482-4310, (202) 482-2285, and (202) 482-3004, respectively.

SUPPLEMENTARY INFORMATION:

Background

On March 5, 2024, the U.S. Department of Commerce (Commerce) initiated countervailing duty (CVD) investigations of U.S. imports of melamine from Germany, India, Qatar, and Trinidad and Tobago (the investigations).¹ Currently, the preliminary determinations in the investigations are due no later than May 9, 2024.

¹ See Melamine from Germany, India, Qatar, and Trinidad and Tobago: Initiation of Countervailing Duty Investigations, 89 FR 17381 (March 11, 2024).

Postponement of Preliminary Determinations

Section 703(b)(1) of the Tariff Act of 1930, as amended (the Act), requires Commerce to issue the preliminary determination in a CVD investigation within 65 days after the date on which Commerce initiated the investigation. However, section 703(c)(1) of the Act permits Commerce to postpone the preliminary determination in a CVD investigation until no later than 130 days after the date on which Commerce initiated the investigation if: (A) the petitioner makes a timely request for an extension of the period within which the determination must be made; or (B) Commerce concludes that the parties concerned are cooperating, that the investigation is extraordinarily complicated, and that additional time is necessary to make the preliminary determination. Under 19 CFR 351.205(e), the petitioner must submit a request for postponement 25 days or more before the scheduled date of the preliminary determination and must state the reasons for the request. Commerce will grant the request unless it finds compelling reasons to deny the request.

On April 4, 2024, Cornerstone Chemical Company, the petitioner in the investigations, timely requested that Commerce postpone the preliminary determinations in the investigations.² The petitioner requested postponement of the preliminary determinations in the investigations so that Commerce can fully analyze the forthcoming questionnaire responses of the mandatory respondents and issue supplemental questionnaires, as necessary.³

² See Petitioner's Letters, “Petitioner's Request For Postponement Of The Preliminary Determination,” dated April 4, 2024.

³ Id.

In accordance with 19 CFR 351.205(e), the petitioner submitted its requests for postponement of the preliminary determinations in the investigations 25 days or more before the scheduled date of the preliminary determinations and stated the reasons for its requests. Commerce finds no compelling reason to deny the requests. Therefore, in accordance with section 703(c)(1)(A) of the Act, Commerce is postponing the deadline for the preliminary determinations in the investigations to no later than 130 days after the date on which it initiated the investigations, i.e., July 15, 2024.⁴

⁴ Postponing the preliminary determinations to 130 days after initiation of the investigations would make the deadline on Saturday, July 13, 2024. Commerce's practice dictates that where a deadline falls on a weekend or federal holiday, the appropriate deadline is the next business day, in this case Monday, July 15, 2024. See Notice of Clarification: Application of “Next Business Day” Rule for Administrative Determination Deadlines Pursuant to the Tariff Act of 1930, As Amended, 70 FR 24533 (May 10, 2005).

Pursuant to section 705(a)(1) of the Act and 19 CFR 351.210(b)(1), the deadline for the final determinations in the investigations will continue to be 75 days after the date of the preliminary determinations.

This notice is issued and published pursuant to section 703(c)(2) of the Act and 19 CFR 351.205(f)(1).

Dated: April 11, 2024.
Ryan Majerus,
Deputy Assistant Secretary for Policy and Negotiations, performing the non-exclusive functions and duties of the Assistant Secretary for Enforcement and Compliance.

[FR Doc. 2024-08269 Filed 4-17-24; 8:45 am]

BILLING CODE 3510-DS-P